DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: Comporting with Executive Order 13563, “Improving Regulations and Regulatory Review,” and consistent with Executive Order 13777, “Enforcing the Regulatory Reform Agenda,” OSHA removed or revised outdated, duplicative, unnecessary, and inconsistent requirements in safety and health standards. Standards Improvement Project—Phase IV (SIP-IV) was published May 14, 2019 (84 FR 21416, Docket Number OSHA-2012-0007). This final rule reduces regulatory burden while maintaining or enhancing worker safety and health, and improving privacy protections.

The Occupational Safety and Health Administration announces an OMB extension of approval for a number of information collection requirements found in the final rule. OSHA sought approval of these requirements under the Paperwork Reduction Act of 1995 (PRA), and, as required by that Act, is announcing the approval numbers and expiration dates for these requirements.

DATES: This notice is effective October 25, 2019.

FOR FURTHER INFORMATION CONTACT: Seleda Perryman or Theda Kenney, Directorate of Standards and Guidance, OSHA, U.S. Department of Labor, telephone (202) 693-2222.

SUPPLEMENTARY INFORMATION: The purposes of the Paperwork Reduction Act of 1995 (PRA), 44 U.S.C. 3501 et seq., include enhancing the quality and utility of information the Federal government requires and minimizing the paperwork and reporting burden on affected entities. The public is not required to respond to a collection of information unless it displays a currently valid OMB control number (44 U.S.C. 3507). Also, notwithstanding any other provisions of law, no person shall be subject to penalty for failing to comply with a collection of information if there is not a current valid OMB control number (44 U.S.C. 3512).

The Department submitted a series of Information Collection Requests (ICRs) to revise the collections in accordance with the SIP-IV Final Rule, as required by the PRA. See 44 U.S.C. 3507(d). Some of the revisions resulted in changes to the existing burden hour and/or cost estimates. Other revisions were less significant and did not change the ICR burden hour and cost estimates.

SIP-IV modified twenty-five Information Collections currently approved by the Office of Management and Budget (OMB) under the PRA. They are listed in the table along with the OMB Control Number and their current expiration date. In accordance with 5 CFR 1320.5(b), an agency cannot conduct, sponsor, or require a response to a collection of information unless the collection displays a valid OMB control number and the agency informs respondents that they need not respond to the collection of information.

Title of the information collection request | OMB Control No. | Expiration date
1,2-Dibromo-3-Choropropane (DBCP) Standard (29 CFR 1910.1044) | 1218-0101 | 08/31/2022
1,3-Butadiene Standard (29 CFR 1910.1051) | 1218-0170 | 01/31/2020
4,4′-Methylenedianiline (MDA) in Construction (29 CFR 1926.60) | 1218-0183 | 07/31/2022
4,4′-Methylenedianiline (MDA) for General Industry (29 CFR 1910.1050) | 1218-0184 | 01/31/2020
Acrylonitrile (29 CFR 1910.1045) | 1218-0126 | 07/31/2022
Asbestos in Construction Standard (29 CFR 1926.1101) | 1218-0134 | 10/31/2021
Asbestos in General Industry (29 CFR 1910.1001) | 1218-0133 | 04/30/2020
Asbestos in Shipyards (29 CFR 1915.1001) | 1218-0195 | 04/30/2020
Benzene (29 CFR 1910.1028) | 1218-0129 | 01/31/2020
Bloodborne Pathogens Standard (29 CFR 1910.1030) | 1218-0180 | 08/31/2021
Cadmium in Construction (29 CFR 1926.1127) | 1218-0186 | 01/31/2020
Cadmium in General Industry (29 CFR 1910.1027) | 1218-0185 | 01/31/2020
Coke Oven Emissions (29 CFR 1910.1029) | 1218-0128 | 07/31/2022
Construction Standards on Posting Emergency Telephone Numbers and Floor Load Limits (29 CFR 1926.50 and 29 CFR 1926.250) | 1218-0093 | 07/31/2022
Cotton Dust (29 CFR 1910.1043) | 1218-0061 | 08/31/2021
Ethylene Oxide (EtO) Standard (29 CFR 1910.1047) | 1218-0108 | 09/30/2020
Formaldehyde Standard (29 CFR 1910.1048) | 1218-0145 | 04/30/2020
Hazardous Waste Operations and Emergency Response for General Industry (29 CFR 1910.120) and Construction (29 CFR 1926.65) | 1218-0202 | 01/31/2020
Hexavalent Chromium Standards for General Industry (29 CFR 1910.1026) | 1218-0252 | 01/31/2020
Inorganic Arsenic Standard (29 CFR 1910.1018) | 1218-0104 | 07/31/2022
Lead in Construction Standard (29 CFR 1926.62) | 1218-0189 | 07/31/2022
Lead in General Industry Standard (29 CFR 1910.1025) | 1218-0092 | 01/31/2020
Methylene Chloride (29 CFR 1910.1052) | 1218-0179 | 08/31/2021
Respirable Crystalline Silica Standards for General Industry, Shipyard Employment and Marine Terminals (29 CFR 1910.1053) and Construction (29 CFR 1926.1153) | 1218-0266 | 01/31/2020
Vinyl Chloride Standard (29 CFR 1910.1017) | 1218-0010 | 08/31/2021

Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on October 18, 2019.
Loren Sweatt,
Principal Deputy Assistant Secretary of Labor for Occupational Safety and Health.

[FR Doc. 2019-23295 Filed 10-24-19; 8:45 am]

BILLING CODE 4510-26-P